FEDERAL COMMUNICATIONS COMMISSION

[Report No. 2801]

Petition for Reconsideration of Action in Rulemaking Proceeding

December 8, 2006.

A Petition for Reconsideration has been filed in the Commission's Rulemaking proceeding listed in this Public Notice and published pursuant to 47 CFR 1.429(e). The full text of this document is available for viewing and copying in Room CY-B402, 445 12th Street, SW., Washington, DC, or may be purchased from the Commission's copy contractor, Best Copy and Printing, Inc. (BCPI) (1-800-378-3160). Oppositions to this petition must be filed by January 4, 2007. See Section 1.4(b)(1) of the Commission's rules (47 CFR 1.4(b)(1)). Replies to an opposition must be filed within 10 days after the time for filing oppositions have expired.

Subject: In the Matter of Amendment of the Commission's Rules Regarding Maritime Automatic Identification Systems (WT Docket No. 04-344).

Petition for Rule Making Filed by National Telecommunications and Information Administration (RM-10821).

Emergency Petition for Declaratory Ruling Filed by MariTel, Inc.

Amendment of the Commission's Rules Concerning Maritime Communications (PR Docket No. 92-257).

Number of Petitions Filed: 1.

Marlene H. Dortch,
Secretary.

[FR Doc. E6-21640 Filed 12-19-06; 8:45 am]

BILLING CODE 6712-01-P